DEPARTMENT OF HEALTH AND HUMAN SERVICES

Administration for Children and Families

Submission for OMB Review; Comment Request

Title: Voluntary Acknowledgement of Paternity and Required Data Elements for Paternity Establishment Affidavits.

OMB No.: 0970-0171.

Description: Section 466(a)(5)(C) of the Social Security Act requires States to enact laws ensuring a simple civil process for voluntarily acknowledging paternity via an affidavit. The development and use of an affidavit for the voluntary acknowledgment of paternity would include the minimum requirements of the affidavit specified by the Secretary under section 452(a)(7) and give full faith and credit to such an affidavit signed in any other State according to its procedures. The State must provide that, before a mother and putative father can sign a voluntary acknowledgement of paternity, the mother and putative father must be given notice, orally and in writing of the alternatives to, the legal consequences of, and the rights (including any rights, if one parent is a minor, due to minority status) and responsibilities of acknowledging paternity. The affidavits will be used by hospitals, birth record agencies, and other entities participating in the voluntary paternity establishment program to collect information from the parents of nonmarital children.

Respondents: The parents of nonmarital children and State and Tribal IV-D agencies, hospitals, birth record agencies and other entities participating in the voluntary paternity establishment program.

Annual Burden Estimates
Instrument | Number of respondents/partner | Number of responses per respondent/partner | Average burden hours per response | Total burden hours
Training | 130,330 | 1 | 1 | 130,300
Paternity Acknowledgment Process | 2,606,596 | 1 | 0.17 | 443,121
Data Elements | 54 | 1 | 1 | 54
Data Elements | 2,606,596 | 1 | .08 | 208,528

Estimated Total Annual Burden Hours: 782,003

Additional Information: Copies of the proposed collection may be obtained by writing to the Administration for Children and Families, Office of Planning, Research and Evaluation, 330 C Street SW., Washington, DC 20201. Attention Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2017-08510 Filed 4-26-17; 8:45 am]

BILLING CODE 4184-01-P